DEPARTMENT OF ENERGY

Federal Energy Regulatory Commission

Combined Notice of Filings #1

Take notice that the Commission received the following electric rate filings:

Docket Numbers: ER13-959-001.

Applicants: Duke Energy Carolinas, LLC.

Description: Compliance Filing ER13-959 to be effective 6/1/2011.

Filed Date: 5/6/13.

Accession Number: 20130506-5018.

Comments Due: 5 p.m. ET 5/28/13.

Docket Numbers: ER13-976-000.

Applicants: Arizona Public Service Company.

Description: Refund Report for Navajo Generating Station Operating Agreement to be effective N/A.

Filed Date: 5/3/13.

Accession Number: 20130503-5172.

Comments Due: 5 p.m. ET 5/24/13.

Docket Numbers: ER13-1222-001.

Applicants: NV Energy, Inc.

Description: OATT Revisions to Attachment N—LGIA and Attachment O—SGIA Compliance Filing to be effective 3/1/2013.

Filed Date: 5/3/13.

Accession Number: 20130503-5177.

Comments Due: 5 p.m. ET 5/24/13.

Docket Numbers: ER13-1425-000.

Applicants: Massachusetts Electric Company.

Description: Interconnection Agreement between Mass. Electric Co. and The City of Brockton to be effective 7/3/2013.

Filed Date: 5/3/13.

Accession Number: 20130503-5178.

Comments Due: 5 p.m. ET 5/24/13.

Docket Numbers: ER13-1426-000.

Applicants: Midcontinent Independent System Operator, Inc.

Description: 05-06-2013 SA 2520 Mandan IA MDU-Minnkota to be effective 5/7/2013.

Filed Date: 5/6/13.

Accession Number: 20130506-5016.

Comments Due: 5 p.m. ET 5/28/13.

Docket Numbers: ER13-1427-000.

Applicants: Western Massachusetts Electric Company.

Description: Western Massachusetts Electric Company submits Cancellation of Pioneer Valley Design and Engineering Agreement to be effective 5/11/2012.

Filed Date: 5/6/13.

Accession Number: 20130506-5068.

Comments Due: 5 p.m. ET 5/28/13.

Docket Numbers: ER13-1428-000.

Applicants: Lighthouse Energy Group, LLC.

Description: Lighthouse Energy Group, LLC submits Lighthouse Energy Group, LLC Market Based Rate Tariff to be effective 5/31/2013.

Filed Date: 5/6/13.

Accession Number: 20130506-5072.

Comments Due: 5 p.m. ET 5/28/13.

Take notice that the Commission received the following qualifying facility filings:

Docket Numbers: QF13-404-000.

Applicants: Mosaic Fertilizer, LLC.

Description: Form 556—Application for Commission certification of Mosaic Fertilizer, LLC.

Filed Date: 5/2/13.

Accession Number: 20130502-5073.

Comments Due: 5 p.m. ET 5/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2013.
Nathaniel J. Davis, Sr.,
Deputy Secretary.

[FR Doc. 2013-11418 Filed 5-13-13; 8:45 am]

BILLING CODE 6717-01-P